DEPARTMENT OF ENERGY

Federal Energy Regulatory Commission

Notice of Technology Demonstration

May 10, 2000.

Take notice that, on May 24, 2000, Edward Cazalet, of Automated Power Exchange, Inc., will make a presentation before the Commission, interested members of the staff, and interested members of the public demonstrating the possible use of e-commerce technologies and the Internet to develop markets for various power products, including transmission rights.

The presentation will be held on May 24, 2000, at 10:00 a.m., in the Commission Meeting Room, 2nd Floor, 888 First Street, N.E., Washington, D.C. 20426.

David P. Boergers,
Secretary.

[FR Doc. 00-12213 Filed 5-15-00; 8:45 am]

BILLING CODE 6717-01-M